DEPARTMENT OF ENERGY

Federal Energy Regulatory Commission

[Docket No. RP03-575-000]

Florida Gas Transmission Company; Notice of Proposed Changes in FERC Gas Tariff

August 29, 2003.

Take notice that on August 22, 2003, Florida Gas Transmission Company (FGT) tendered for filing as part of its FERC Gas Tariff, Third Revised Volume No. 1, the following tariff sheets, with an effective date of September 1, 2003:

Sixtieth Revised Sheet No. 8A

Fifty-Second Revised Sheet No. 8A.01

Fifty-Second Revised Sheet No. 8A.02

Tenth Revised Sheet No. 8A.04

Fifty-Fifth Revised Sheet No. 8B

Forty-Eighth Revised Sheet No. 8B.01

Fifth Revised Sheet No. 8B.02

FGT states that in Docket No. RP03-268-000 filed on February 28, 2003, FGT filed to establish a Base Fuel Reimbursement Charge Percentage (Base FRCP) of 3.49% to become effective for the six-month Summer Period beginning April 1, 2003.

FGT states that in Docket No. RP03-310-000 filed on March 21, 2003, FGT filed a flex adjustment of (0.24%) resulting in an Effective Fuel Reimbursement Charge Percentage (Effective FRCP) of 3.25% to become effective April 1, 2003.

FGT further states that the filing is necessary because it is currently experiencing lower fuel usage than it is being recovered by the current Effective FRCP of 3.25%. Decreasing the FRCP will reduce FGT's over recovery of fuel and reduce the Unit Fuel Surcharge in the next Summer Period.

FGT states that copies of the filing are being mailed to all customers served under the rate schedules affected by the filing and the interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “eLibrary” link.

Comment Date: September 3, 2003.

Magalie R. Salas,
Secretary.

[FR Doc. 03-22728 Filed 9-4-03; 8:45 am]

BILLING CODE 6717-01-P